DEPARTMENT OF THE TREASURY

President's Commission on the United States Postal Service; Issues for Consideration

AGENCY: Department of the Treasury, Departmental Offices.

ACTION: Notice and request for comments.

SUMMARY: The President has clearly outlined the mission of this Commission in Executive Order No. 13278. According to the Executive Order, the Commission must consider the following issues: (1) The role of the Postal Service in the 21st century and beyond; (2) the flexibility that the Postal Service should have to change prices, control costs, and adjust service in response to financial, competitive, or market pressures; (3) the rigidities in cost or service that limit the efficiency of the postal system; (4) the ability of the Postal Service, over the long term, to maintain universal mail delivery at affordable rates and cover its unfunded liabilities with minimum exposure to the American taxpayers; (5) the extent to which postal monopoly restrictions continue to advance the public interest under evolving market conditions and the extent to which the Postal Service competes with private sector services; and (6) the most appropriate governance and oversight structure for the Postal Service.

The Executive Order also charges the Commission with considering “such other issues relating to the Postal Service” that the Commission determines are appropriate subjects for review.

During this process of examination, the Commission is committed to ensuring that every affected and interested party has an opportunity to share its views and concerns with us. Any party that wishes to submit a written statement on any issue or issues that fall within the established scope of the Commission's mission is strongly encouraged to do so. The Commission has established three methods by which statements can be submitted for consideration and review:

1. Transmission by Email to the following address: pcusps_comments@do.treas.gov. Statements can be embedded in the Email as ASCII text or sent as a MS Word or ASCII text attachment. Do not include artwork or other graphic elements.

2. Stored on 3½ inch high density computer disk as a MS word or ASCII text document (Windows format only) and mailed or hand-delivered to: President's Commission on the United States Postal Service, 1120 Vermont Avenue, NW., Suite 971, Washington, DC 20005.

3. Typewritten statements may be mailed or hand-delivered to: President's Commission on the United States Postal Service, 1120 Vermont Avenue, NW., Suite 971, Washington, DC 20005.

DATES: Email transmissions must be received by the Commission no later than 5 p.m. on Wednesday, February 12. Mailed submissions must be postmarked no later than 5 p.m. on Wednesday, February 12.

FOR FURTHER INFORMATION CONTACT: Randall Lewis of the Commission staff at (202) 622-6075.

SUPPLEMENTARY INFORMATION: The Commission encourages parties to limit their statements to a maximum length of 25 pages of double-spaced written text. Any statement exceeding 15 pages in length should be accompanied by a one-page “executive summary.” Please be aware that the Commission may, at its discretion, post any statements it receives on the Commission's website at http://www.treas.gov/offices/domestic-finance/usps.

Dated: January 21, 2003.
Roger Kodat,
Designated Federal Official.

[FR Doc. 03-1689 Filed 1-24-03; 8:45 am]

BILLING CODE 4811-16-P